DEPARTMENT OF THE INTERIOR

National Park Service

[N6776; NPS-WASO-NAGPRA-NPS0041624; PPWOCRADN0-PCU00RP14.R50000]

Notice of Intended Repatriation: University of Georgia, Laboratory of Archaeology, Athens, GA

AGENCY: National Park Service, Interior.

ACTION: Notice.

SUMMARY: In accordance with the Native American Graves Protection and Repatriation Act (NAGPRA), the University of Georgia, Laboratory of Archaeology intends to repatriate certain cultural items that meet the definition of unassociated funerary objects and that have a cultural affiliation with the Indian Tribes or Native Hawaiian organizations in this notice.

DATES: Repatriation of the cultural items in this notice may occur on or after January 21, 2026.

ADDRESSES: Send additional, written requests for repatriation of the cultural items in this notice to Amanda Roberts Thompson, University of Georgia, Laboratory of Archaeology, 1125 E Whitehall Road, Athens, GA 30602, email arobthom@uga.edu.

SUPPLEMENTARY INFORMATION: This notice is published as part of the National Park Service's administrative responsibilities under NAGPRA. The determinations in this notice are the sole responsibility of the University of Georgia, Laboratory of Archaeology and additional information on the determinations in this notice, including the results of consultation, can be found in the summary or related records. The National Park Service is not responsible for the determinations in this notice.

Abstract of Information Available

A total of 193 lots of cultural items have been requested for repatriation. The 193 lots of unassociated funerary objects are ceramics, faunal bone, pipes, shell, lithics, soil, daub, shell beads, burnt clay, shell, faunal bone and charcoal mix, faunal bone and shell mix, soil, bone and sherdlets mix, beads, botanicals, charcoal, shell ear pins, shell gorgets, shell pendant, bone tools, bone pin, bone beamer, shell concretion, miscellaneous concretions, shell tool, unmodified lithics, pebbles, metal, fossilized bone, pearl bead, whale otoliths, baked clay objects, bone button, burnt wood, charcoal and soil mix, copper rings, and glass beads.

The 193 lots of unassociated funerary objects were removed from the Lower Coastal Plain Physiographic Province of Georgia, including Bryan County sites 9BN7 Seven Mile Bend, 9BN9 Red Bird Creek, 9BN10 Kilkenny; Chatham County sites 9CH14 Oemler Mound, 9CH15 Haven Home (Indian Kings Tomb), 9CH61 Pagan Plum, 9CH71 Groves Creek, 9CH309 PH Lewis Survey; Glynn County sites 9GN22 Kelvin Grove Plantation, 9GN34 Sea Island Point, 9GN40 Belle Point, 9GN44_89 Horton House, 9GN51 Kent Mound, 9GN54 Goodyear Mound, 9GN55 Taylor Mound, 9GN74, Sea Palms; Liberty County sites 9LI8 Fallen Tree, 9LI20 Mary's Mound, 9LI21 Meeting House Field, 9LI274 Mission Santa Catalina de Guale, 9LI648, McQueen Shell Ring; McIntosh County sites 9MC_Site 147, 9MC4 Townsend Mound, 9MC64 Pine Harbor Mound, 9MC341 Creighton Island, 9MC60/385 Cox Mound, 9MC404 The Thicket, 9MC414 Little Pine Island and from unprovenienced areas in Chatham County, Glynn or McIntosh Counties, and Liberty County. The lots are summarized by site/geographic location below.

A total of 14 lots of unassociated funerary objects were collected by Fred Cook in 1971 at 9BN7, Seven Mile Bend in Bryan County, Georgia. Cook donated the collection to the University of Georgia, Department of Anthropology, but the date of the donation is not known. There is no record of any potentially hazardous substances.

A total of 11 lots of unassociated funerary objects were collected by Charles Pearson and Chester DePratter in 1973 at 9BN9, Red Bird Creek in Bryan County, Georgia. Pearson and DePratter donated the collection to the University of Georgia, Department of Anthropology, but the date of the donation is not known. There is no record of any potentially hazardous substances.

A total of four lots of unassociated funerary objects were collected by Fred Cook in 1968 at 9BN10, Kilkenny Mound in Bryan County, Georgia. Cook donated the collection to the University of Georgia, Department of Anthropology, but the date of the donation is not known. There is no record of any potentially hazardous substances.

A total of one lot of unassociated funerary objects was collected by Chester DePratter and Pennington in 1978 at 9CH14 Oemler Marsh Mound in Chatham County, Georgia. It is likely that the collection was brought to the University of Georgia, Laboratory of Archaeology after the project but the date is unknown There is no record of any potentially hazardous substances.

A total of one lot of unassociated funerary objects was collected from 9CH15 Haven Home in Chatham County, Georgia. The collection history is somewhat unclear but it is known that excavations occurred at the site in the late 1930s. At some point in 1972, objects were transferred to the University of Georgia, Laboratory of Archaeology. There is no record of any potentially hazardous substances.

A total of one lot of unassociated funerary objects was collected by Chester DePratter and Don Crusoe from 9CH61 Pagan Plum Point in Chatham County, Georgia in the early 1970s. It is likely that the collection was brought to the University of Georgia, Laboratory of Archaeology after the project but the date is unknown. There is no record of any potentially hazardous substances.

A total of seven lots of unassociated funerary objects were collected by Erv Garrison at 9CH71, Grove's Creek in Chatham County, Georgia between 1985 and 2009. There was also an earlier excavation in 1970. It is likely that the collection was brought to the University of Georgia, Laboratory of Archaeology after this date. There is no record of any potentially hazardous substances.

A total of three lots of unassociated funerary objects were collected by Fred Cook at 9GN22, Kelvin Grove Plantation in Glynn County, Georgia in an unknown year. It is likely that the collection was brought to the University of Georgia, Laboratory of Archaeology with other collections excavated by Cook but the year is unknown. There is no record of any potentially hazardous substances.

A total of one lot of unassociated funerary objects was collected by Chester DePratter and Don Crusoe at 9GN34, Sea Island Point in Glynn County, Georgia in approximately 1971. It is likely that the collection was brought to the University of Georgia, Laboratory of Archaeology after this date. There is no record of any potentially hazardous substances.

A total of one lot of unassociated funerary objects were collected by Chester DePratter and Don Crusoe at 9GN40, Belle Point in Glynn County, Georgia in approximately 1971. It is likely that the collection was brought to the University of Georgia, Laboratory of Archaeology after this date. There is no record of any potentially hazardous substances.

A total of one lot of unassociated funerary objects was collected by Fred Cook at an unknown date from 9GN44_89, Horton House in Glynn County, Georgia. It is unclear when the collection came to the Laboratory but since it is associated with Fred Cook, it likely came with other Fred Cook collections. There is no record of any potentially hazardous substances.

A total of 41 lots of unassociated funerary objects was collected by Fred Cook at 9GN51, Kent Mound in Glynn County Georgia around 1965. It is likely that part of the collection was brought to the University of Georgia, Laboratory of Archaeology after the project but the year is unknown. Part of the collection was also brought to Skidaway Institute before it was transferred to the University of Georgia, Laboratory of Archaeology in approximately 2018. There is no record of any potentially hazardous substances.

A total of 16 lots of unassociated funerary objects were collected by Fred Cook and Charles Pearson at a previously looted portion of 9GN54, Goodyear Mound in Glynn County, Georgia in an unknown year. It is likely that the collection was brought to the University of Georgia, Laboratory of Archaeology with other collections excavated by Cook but the year is unknown. There is no record of any potentially hazardous substances.

A total of two lots of unassociated funerary objects were collected by Fred Cook at 9GN55, Taylor Mound in Glynn County Georgia between 1968 to 1972. It is likely that the collection was brought to the University of Georgia, Laboratory of Archaeology with other collections excavated by Cook but the year is unknown. There is no record of any potentially hazardous substances.

A total of two lots of unassociated funerary objects were collected by Charles Pearson and Fred Cook at 9GN56, Oatland Mound in Glynn County, Georgia between 1968 and 1972. It is likely that the collection was brought to the University of Georgia, Laboratory of Archaeology with other collections excavated by Cook but the year is unknown. There is no record of any potentially hazardous substances.

A total of two lots of unassociated funerary objects were collected by Fred Cook at 9GN74, Sea Palms in Glynn County, Georgia in 1972. It is likely that the collection was brought to the University of Georgia, Laboratory of Archaeology with other collections excavated by Cook but the year is unknown. There is no record of any potentially hazardous substances.

A total of one lot of unassociated funerary objects was collected by Fred Cook at 9GN86, Prince Street in Glynn County, Georgia in 1972. Notes state that burials were encountered. It is likely that the collection was brought to the University of Georgia, Laboratory of Archaeology with other collections excavated by Cook but the year is unknown. There is no record of any potentially hazardous substances.

A total of one lot of unassociated funerary objects was collected by Fred Cook collected at 9GN88, Kutwick in Glynn County, Georgia in an unknown year. It is likely that the collection was brought to the University of Georgia, Laboratory of Archaeology with other collections excavated by Cook but the year is unknown. There is no record of any potentially hazardous substances.

A total of one lot of unassociated funerary objects was collected by the American Museum of Natural History at 9LI8, Fallen Tree in Liberty County, Georgia between 2013 and 2015. The collection was transferred by the American Museum of Natural History to the University of Georgia, Laboratory of Archaeology in 2022. There is no record of any potentially hazardous substances.

A total of one lot of unassociated funerary objects was collected at 9LI20, Mary's Mound in Liberty County, Georgia by either Joseph Caldwell of UGA in 1970 or David H. Thomas of the American Museum of Natural History in 1977-1978. It is unclear when the transfer to the University of Georgia, Laboratory of Archaeology occurred. There is no record of any potentially hazardous substances.

A total of one lot of unassociated funerary objects was collected by the American Museum of Natural History at 9LI21, Meeting House Field in Liberty County, Georgia between 2009 and 2015. The entire collection was transferred by the American Museum of Natural History to the University of Georgia, Laboratory of Archaeology in 2017. There is no record of any potentially hazardous substances.

A total of one lot of unassociated funerary objects was collected by Joseph Caldwell at 9LI274, Mission Santa Catalina de Guale in Liberty County, Georgia in an unknown year. It is likely that the collection was brought to the University of Georgia, Laboratory of Archaeology after this time. There is no record of any potentially hazardous substances.

A total of five lots of unassociated funerary objects were collected by The American Museum of Natural History at 9LI648, McQueen Shell Ring in 2007 and 2008. The collection was transferred by the American Museum of Natural History to the University of Georgia, Laboratory of Archaeology in 2022. There is no record of any potentially hazardous substances.

A total of five lots of unassociated funerary objects were collected by Fred Cook at 9MC4, Townsend Mound in McIntosh County, Georgia in 1970. It is likely that the collection was brought to the University of Georgia, Laboratory of Archaeology with other collections excavated by Cook but the year is unknown. There is no record of any potentially hazardous substances.

A total of two lots of unassociated funerary objects were collected by Fred Cook in an unknown year from 9MC60/388 Hopkins Mound, McIntosh County, Georgia. A portion of this collection was transferred to the University of Georgia, Laboratory of Archaeology from Georgia Southern University in 2024. It is likely that the rest of the collection was brought to the University of Georgia, Laboratory of Archaeology with other collections excavated by Cook but the year is unknown. There is no record of any potentially hazardous substances.

A total of 21 lots of unassociated funerary objects were collected by Fred Cook at 9MC64, Pine Harbor in McIntosh County, Georgia in 1970s. It is likely that the collection was brought to the University of Georgia, Laboratory of Archaeology with other collections excavated by Cook but the year is unknown. There is no record of any potentially hazardous substances.

A total of one lot of unassociated funerary objects from 9MC259, Eulonia in McIntosh County, Georgia in the 1970s. It is unclear when the transfer to the University of Georgia, Laboratory of Archaeology occurred. There is no record of any potentially hazardous substances.

A total of one lot of unassociated funerary objects was collected by Chester DePratter in 1983 at 9MC341, Creighton Island in McIntosh County, Georgia. It is likely that the collection was brought to the University of Georgia, Laboratory of Archaeology after this survey. There is no record of any potentially hazardous substances.

A total of one lot of unassociated funerary objects was collected by Fred Cook at 9MC385, Cox Mound in McIntosh County, Georgia. No provenience information is present, but a tag with the object states “Cox 2 I2; 566-195; from near Cox, McIntosh County, fishing camp lake or fishing lake”. It is likely that the collection was brought to the University of Georgia, Laboratory of Archaeology with other collections excavated by Cook but the year is unknown. There is no record of any potentially hazardous substances.

A total of one lot of unassociated funerary objects was collected by Fred Cook at 9MC404, The Thicket in McIntosh County, Georgia. It is likely that the collection was brought to the University of Georgia, Laboratory of Archaeology with other collections excavated by Cook but the year is unknown. There is no record of any potentially hazardous substances.

A total of 39 lots of unassociated funerary objects were collected by Fred Cook at 9MC414 Little Pine Island in McIntosh County, Georgia in 1987-1988. It is likely that the collection was brought to the University of Georgia, Laboratory of Archaeology with other collections excavated by Cook but the year is unknown. There is no record of any potentially hazardous substances.

A total of one lot of unassociated funerary objects was collected by Fred Cook in Chatham County, Georgia at a site labeled GA-CH-2. It is likely that the collection was brought to the University of Georgia, Laboratory of Archaeology with other collections excavated by Cook but the year is unknown. There is no record of any potentially hazardous substances.

A total of one lot of unassociated funerary objects was collected by Fred Cook in either Glynn or McIntosh County, Georgia. It is likely that the collection was brought to the University of Georgia, Laboratory of Archaeology with other collections excavated by Cook but the year is unknown. There is no record of any potentially hazardous substances.

A total of one lot of unassociated funerary objects was collected by Joseph Caldwell in Liberty County, Georgia in an unknown year. It is likely that the objects were collected on St. Catherines Island and that the collection was brought to the University of Georgia, Laboratory of Archaeology after this time. There is no record of any potentially hazardous substances.

Determinations

The University of Georgia, Laboratory of Archaeology has determined that:

• The 193 lots of unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a connection between the cultural items described in this notice and Seminole Tribe of Florida and The Muscogee (Creek) Nation.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 21, 2026. If competing requests for repatriation are received, the University of Georgia, Laboratory of Archaeology must determine the most appropriate requestor prior to repatriation. Requests for joint repatriation of the cultural items are considered a single request and not competing requests. The University of Georgia, Laboratory of Archaeology is responsible for sending a copy of this notice to the Indian Tribes and Native Hawaiian organizations identified in this notice and to any other consulting parties.

Authority: Native American Graves Protection and Repatriation Act, 25 U.S.C. 3004 and the implementing regulations, 43 CFR 10.9.

Dated: December 11, 2025.
Melanie O'Brien,
Manager, National NAGPRA Program.

[FR Doc. 2025-23535 Filed 12-19-25; 8:45 am]

BILLING CODE 4312-52-P